DEPARTMENT OF LABOR

Employment and Training Administration

Notice of a Change in Status of an Extended Benefit (EB) Period for Alaska

AGENCY: Employment and Training Administration, Department of Labor.

ACTION: Notice.

SUMMARY: This notice announces a change in benefit period eligibility under the EB Program for Alaska.

The following change has occurred since the publication of the last notice regarding the state's EB status:

• Based on data released by the Bureau of Labor Statistics on March 12, 2018, Alaska's 3-month average seasonally adjusted total unemployment rate (TUR) remains above 6.5 percent for the 3-months ending January 2018. However, this rate fails to meet the requirement of being at least 110 percent of the seasonally adjusted TUR for the corresponding period in either of the prior two years. Therefore, the EB period for Alaska will end on April 7, 2018. The state will remain in an “off” period for a minimum of 13 weeks.

Information for Claimants

The duration of benefits payable in the EB Program, and the terms and conditions on which they are payable, are governed by the Federal-State Extended Unemployment Compensation Act of 1970, as amended, and the operating instructions issued to the states by the U.S. Department of Labor. In the case of a state ending an EB period, the State Workforce Agency will furnish a written notice to each individual who is currently filing claims for EB of the forthcoming termination of the EB period and its effect on the individual's right to EB (20 CFR 615.13 (c)).

Persons who believe they may be entitled to EB, or who wish to inquire about their rights under the program, should contact their State Workforce Agency.

FOR FURTHER INFORMATION CONTACT: U.S. Department of Labor, Employment and Training Administration, Office of Unemployment Insurance Room S-4524, Attn: Anatoli Sznoluch, 200 Constitution Avenue NW, Washington, DC 20210, telephone number (202)-693-3176 (this is not a toll-free number) or by email: Sznoluch.Anatoli@dol.gov.

Signed in Washington, DC.
Rosemary Lahasky,
Deputy Assistant Secretary for Employment and Training, Department of Labor.

[FR Doc. 2018-06243 Filed 3-28-18; 8:45 am]

BILLING CODE 4510-FT-P